DEPARTMENT OF ENERGY

Federal Energy Regulatory Commission

Combined Notice of Filings #1

Take notice that the Commission received the following exempt wholesale generator filings:

Docket Numbers: EG22-228-000.

Applicants: Colice Hall Solar, LLC.

Description: Colice Hall Solar, LLC submits Notice of Self Certification of Exempt Wholesale Generator Status.

Filed Date: 9/30/22.

Accession Number: 20220930-5362.

Comment Date: 5 p.m. ET 10/21/22.

Take notice that the Commission received the following electric rate filings:

Docket Numbers: ER19-2276-005.

Applicants: New York Independent System Operator, Inc.

Description: New York Independent System Operator, Inc. submits informational filing in compliance with the January 2020 Order.

Filed Date: 9/30/22.

Accession Number: 20220930-5337.

Comment Date: 5 p.m. ET 10/21/22.

Docket Numbers: ER22-1839-001.

Applicants: Panther Creek Power Operating, LLC.

Description: Compliance filing: Settlement Compliance Filing to be effective 9/1/2022.

Filed Date: 9/30/22.

Accession Number: 20220930-5298.

Comment Date: 5 p.m. ET 10/21/22.

Docket Numbers: ER22-2958-000.

Applicants: Florida Power & Light Company.

Description: Florida Power & Light Company submitted a Motion Requesting Waiver of Section 3(e)(ii)-(iii) of Attachment H-2b—NWFL System Formula Rate Data Update and True-Up Procedures with Shortened Comment Period and Expedited Processing Request.

Filed Date: 9/28/22.

Accession Number: 20220928-5190.

Comment Date: 5 p.m. ET 10/11/22.

Docket Numbers: ER22-2959-000.

Applicants: Second Foundation US Trading, LLC.

Description: Baseline eTariff Filing: Baseline new to be effective 9/30/2022.

Filed Date: 9/29/22.

Accession Number: 20220929-5190.

Comment Date: 5 p.m. ET 10/20/22.

Docket Numbers: ER22-2960-000.

Applicants: Billerud Escanaba LLC.

Description: Compliance filing: Billerud Escanaba New Baseline Tariff Filing to be effective 10/1/2022.

Filed Date: 9/30/22.

Accession Number: 20220930-5116.

Comment Date: 5 p.m. ET 10/21/22.

Docket Numbers: ER22-2961-000.

Applicants: Gulf Power Company.

Description: Tariff Amendment: Notice of Cancellation—Agreements Database to be effective 10/1/2022.

Filed Date: 9/30/22.

Accession Number: 20220930-5123.

Comment Date: 5 p.m. ET 10/21/22.

Docket Numbers: ER22-2962-000.

Applicants: Public Service Company of Colorado.

Description: § 205(d) Rate Filing: Holy Cross PSA Revision_Comanche 3 to be effective 11/30/2022.

Filed Date: 9/30/22.

Accession Number: 20220930-5126.

Comment Date: 5 p.m. ET 10/21/22.

Docket Numbers: ER22-2963-000.

Applicants: Yellowbud Solar, LLC.

Description: Baseline eTariff Filing: Application for Market-Based Rate Authority and Request for Associated Waivers to be effective 11/1/2022.

Filed Date: 9/30/22.

Accession Number: 20220930-5139.

Comment Date: 5 p.m. ET 10/21/22.

Docket Numbers: ER22-2964-000.

Applicants: Public Service Company of Colorado.

Description: § 205(d) Rate Filing: 2022-09-30 BkCoU-NonConforming BASA-469-0.0.0 to be effective 10/1/2022.

Filed Date: 9/30/22.

Accession Number: 20220930-5146.

Comment Date: 5 p.m. ET 10/21/22.

Docket Numbers: ER22-2965-000.

Applicants: Wisconsin Public Service Corporation.

Description: § 205(d) Rate Filing: Depreciation Study_Change in Depreciation Rates for Wholesale Production Service to be effective 1/1/2023.

Filed Date: 9/30/22.

Accession Number: 20220930-5154.

Comment Date: 5 p.m. ET 10/21/22.

Docket Numbers: ER22-2966-000.

Applicants: Public Service Company of New Mexico.

Description: Tariff Amendment: Notice of Cancellation Rate Schedule No. 144 to be effective 10/1/2022.

Filed Date: 9/30/22.

Accession Number: 20220930-5160.

Comment Date: 5 p.m. ET 10/21/22.

Docket Numbers: ER22-2967-000.

Applicants: Wisconsin Electric Power Company.

Description: § 205(d) Rate Filing: Depreciation Study and Change in Depreciation Rates to be effective 1/1/2023.

Filed Date: 9/30/22.

Accession Number: 20220930-5166.

Comment Date: 5 p.m. ET 10/21/22.

Docket Numbers: ER22-2968-000.

Applicants: Southwest Power Pool, Inc.

Description: § 205(d) Rate Filing: Provisions for Self-Funding Network Upgrades and System Protection Facilities to be effective 12/1/2022.

Filed Date: 9/30/22.

Accession Number: 20220930-5167.

Comment Date: 5 p.m. ET 10/21/22.

Docket Numbers: ER22-2969-000.

Applicants: Mid-Atlantic Interstate Transmission, LLC, PJM Interconnection, L.L.C.

Description: § 205(d) Rate Filing: Mid-Atlantic Interstate Transmission, LLC submits tariff filing per 35.13(a)(2)(iii: MAIT submits revised Interconnection Agreement, SA No. 4578 to be effective 11/30/2022.

Filed Date: 9/30/22.

Accession Number: 20220930-5171.

Comment Date: 5 p.m. ET 10/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2022.
Debbie-Anne A. Reese,
Deputy Secretary.

[FR Doc. 2022-21779 Filed 10-5-22; 8:45 am]

BILLING CODE 6717-01-P